DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 15, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 9, 2019.
Donald P. Burger,
Chief, General Approvals and Permits Branch.

Application No. | Applicant | Regulation(s) affected | Nature of the special permits thereof
SPECIAL PERMITS DATA—Granted
11110-M | UNITED PARCEL SERVICE CO | 171.8, 175.75 | To modify the special permit to add additional air carriers.
11859-M | CARLETON TECHNOLOGIES, INC | 173.301(f), 173.302a(a), 178.65 | To modify the special permit to update the tube welding test procedure to the most current production drawings.
15110-M | KIDDE TECHNOLOGIES INC | 173.302, 173.302a | To modify the special permit to authorize additional part numbers (cylinders) to be added to the permit.
15279-M | UNIVERSITY OF COLORADO AT BOULDER, EHS | 172.301(a), 172.301(b), 172.301(c), 173.196(a), 173.196(b), 178.609 | To modify the special permit to authorize a new destination for the material transfer.
16308-M | VERO BIOTECH LLC | 173.175 | To modify the special permit to clarify the packaging used description.
20602-M | THE BOEING COMPANY | 173.56(b), 173.62, 173.185(a), 173.185(b), 173.201, 173.302(a), 173.304(a), 177.848(d) | To modify the special permit to authorize an additional hazmat.
20602-M | THE BOEING COMPANY | 173.56(b), 173.62, 173.185(a), 173.185(b), 173.201, 173.302(a), 173.304(a), 177.848(d) | To modify the special permit to authorize any qualified carrier that is capable of transporting Dangerous Goods IAW 49 CFR.
20709-M | DAIMLER AG | 172.101(j), 173.185(a) | To modify the special permit to authorize an increase in the battery and package weight.
20816-N | AIR PRODUCTS AND CHEMICALS, INC | 178.274, 178.277 | To authorize the manufacture, mark, sale and use of portable tanks built to ASME Section XII specifications.
20831-N | CYLINDER SALES AND TESTING, LLC | 180.209(a), 180.209(b), 180.209(b)(1)(iv) | To authorize the transportation in commerce of certain hazardous materials in DOT Specification 3AL cylinders manufactured from aluminum alloy 6061-T6 that are requalified every ten years rather than every five years using 100% ultrasonic examination.
20862-N | CUMMINS INC | 172.101(j), 173.185(a) | To authorize the transportation in commerce of low production lithium ion batteries exceeding 35 kg by cargo-only aircraft.
20864-N | SALMON RIVER HELICOPTERS, INC | 172.101(j), 172.200, 175.33 | To authorize the transportation in commerce of certain materials forbidden for transport via passenger-carrying aircraft or cargo-only aircraft.
20871-N | CASTLE AVIATION, INC | 172.203(a), 175.700(b)(2)(ii), 175.701(a) | To authorize the transportation in commerce of Class 7 materials with a transport index greater than that which the HMR authorizes.
20877-N | MEDIGREEN WASTE SERVICES LLC | 173.24(b) | To authorize the one time one way transportation of shipping containers which contain compromised packages of medical waste.
20883-N | DEPARTMENT OF THE ARMY (MILITARY SURFACE DEPLOYMENT & DISTRIBUTION COMMAND) | 173.302(a), 175.3 | To authorize the transportation in commerce of argon in non-specification packaging.
20885-N | KOREAN AIR LINES CO., LTD | 172.101(j), 173.27(b)(2), 173.27(b)(3), 175.30(a)(1) | To authorize the transportation in commerce of certain explosives that are forbidden for transportation by cargo aircraft only.
20890-N | KALITTA AIR, L.L.C | 172.101(j), 173.27(b)(2), 173.27(b)(3), 175.30(a)(1) | To authorize the transportation in commerce of explosives by cargo aircraft.
20902-N | EASTERN UPPER PENINSULA TRANSPORTATION AUTHORITY | 176.164(e) | To authorize the transportation in commerce of certain Class 1 materials in motor vehicles aboard ferry vessels, which do not have two sets of breathing apparatus.
SPECIAL PERMITS DATA—Denied
20323-M | Cummins Inc | 172.101(j) | To modify the special permit to increase the authorized net weight to 75 kg.
20686-N | PETROLEUM HELICOPTER, INC | 172.101(j), 175.75(b), 175.700(a) | To authorize the transportation of Class 7 material aboard passenger-carrying aircraft.
20836-N | ELCO CORPORATION | 173.35(e) | To authorize the transportation of certain hazmat where two or more closure systems are fitted in series, the system nearest to the hazardous material being carried must be closed first.
20868-N | DYNO NOBEL INC | 176.164(e) | To authorize the transportation in commerce of Class 1 materials by vessel without having two sets of breathing apparatus and a power-operated fire pump.
20878-N | Quality Blasting Services | 176.164(e) | To authorize the transportation in commerce of explosives by vessel where the vessel does not have the required sets of breathing apparatus and power operated pumps.
20887-N | ERA HELICOPTERS, LLC | 172.101(j) | To authorize the transportation of lithium ion batteries aboard a passenger-carrying aircraft operating in a helicopter air ambulance configuration.
SPECIAL PERMITS DATA—Withdrawn
20888-N | AIRGAS USA, LLC | 173.3 | To authorize the emergency transportation in commerce of a 4AA480 cylinder of anhydrous ammonia which has a leaking cylinder valve.
20894-N | AIRGAS USA, LLC | 173.3 | To authorize the transportation in commerce of a 3A480 cylinder of anhydrous ammonia with a leaking valve.

[FR Doc. 2019-15037 Filed 7-15-19; 8:45 am]

BILLING CODE 4909-60-P